DEPARTMENT OF HOMELAND SECURITY

Office of the Secretary

[Docket No. DHS-2008-0163]

Privacy Act of 1974; United States Secret Service—001 Criminal Investigation Information System of Records Notice

AGENCY: Privacy Office; DHS.

ACTION: Notice of Privacy Act system of records.

SUMMARY: In accordance with the Privacy Act of 1974 and as part of the Department of Homeland Security's ongoing effort to review and update legacy system of record notices, the Department of Homeland Security proposes to update and reissue USSS.003 Criminal Investigation Information System, August 28, 2001 as DHS/USSS—001 Criminal Investigation Information System of Records. Categories of individuals, categories of records, and the routine uses of this legacy system of records notice have been reviewed and updated to better reflect the Department of Homeland Security United States Secret Service criminal investigation information record system. Additionally, an updated Notice of Proposed Rulemaking will be published elsewhere in the Federal Register. Until such time, the exemptions for the legacy system of records notice transfer from the SORN's legacy agency to the Department of Homeland Security. This reissued system will be included in the Department's inventory of record systems.

DATES: Written comments must be submitted on or before January 20, 2009.

ADDRESSES: You may submit comments, identified by docket number DHS-2008-0163 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received go to http://www.regulations.gov.

FOR FURTHER INFORMATION CONTACT: For general questions please contact: Latita Huff (202-406-6370), Privacy Point of Contact, United States Secret Service, 950 H St., NW., Washington, DC 20223. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, the Department of Homeland Security (DHS) and United States Secret Service (USSS) have relied on preexisting Privacy Act systems of records notices for the collection and maintenance of records that concern DHS/USSS criminal investigation information system records.

As part of its efforts to streamline and consolidate its Privacy Act record systems, DHS/USSS is updating and reissuing a DHS/USSS system of records under the Privacy Act (5 U.S.C. 552a) for DHS/USSS criminal investigation information system records. This will ensure that all organizational parts of USSS follow the same privacy rules for collecting and handling criminal investigation information system records.

In accordance with the Privacy Act of 1974 and as part of DHS's ongoing effort to review and update legacy system of record notices, DHS/USSS proposes to update USSS.003 Criminal Investigation Information System (66 FR 45362 August 28, 2001). Categories of individuals, categories of records, and the routine uses of this legacy system of records notice have been reviewed and updated to better reflect the DHS/USSS criminal investigation information record system. Additionally, an updated Notice of Proposed Rulemaking will be published elsewhere in the Federal Register. Until such time, the exemptions for the legacy system of records notice transfer from the SORN's legacy agency to the Department of Homeland Security. This reissued system will be included in the Department's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires that each agency publish in the Federal Register a description denoting the type and character of each system of records in order to make agency recordkeeping practices transparent, to notify individuals about the use of their records, and to assist the individual to more easily find files within the agency. Below is a description of the Criminal Investigation Information System.

In accordance with 5 U.S.C. 552a(r), DHS has provided a report of this revised system of records to the Office of Management and Budget and to the Congress.

System of Records:

DHS/USSS-001.

System name:

United States Secret Service—001 Criminal Investigation Information System of Records.

Security classification:

Unclassified and Classified.

System location:

Records are maintained at the United States Secret Service Headquarters, 950 H St., NW., Washington, DC 20223 and field offices.

Categories of individuals covered by the system:

Individuals who have been or are currently the subject of a criminal investigation by DHS/USSS in connection with the performance by that agency of its authorized criminal investigative functions; individuals who are payees, registered owners, or endorsers of stolen or lost obligations and other securities of the United States; individuals who are witnesses, complainants, informants, suspects, defendants, fugitives, released prisoners, correspondents, organized crime figures, and victims of crimes who have been identified by DHS/USSS in the conduct of criminal investigations or by information supplied by other law enforcement agencies, government units, and the general public.

Categories of records in the system:

Categories of records in this system include:

• Records containing information compiled for the purpose of identifying individual criminal offenders and alleged offenders and consisting of identifying data, including, but not limited to, name, date of birth, social security number, telephone number, home address, business address, spouse and family information, physical description, notations of arrest, the nature and position of criminal charges, sentencing, confinement, release, and parole or probations status concerning criminal offenders, defendants and suspects, witnesses, victims, and law enforcement personnel;

• Records containing information compiled for the purpose of a criminal investigation and associated with an identifiable individual, including reports of informants and investigators;

• Records containing reports identifiable with an individual compiled at various stages of the process of enforcement of criminal laws from arrest or indictment through release from supervision;

• Records containing investigatory material compiled for law enforcement purposes, including but not limited to, handwriting exemplars; laboratory analyses of inks and papers; handwriting analyses; petitions for the remission of forfeitures; notice of non-receipt of Treasury drafts; affidavits of forged endorsements; opinions of the examiner of questioned documents; reports or opinions from the examination of computer evidence; reports or opinions from the examination of altered cellular telephones; certificates by owners of U.S. registered securities concerning forged requests for payments or assignments; applications for relief on account of loss, theft, or destruction of U.S. Savings Bonds or checks; photographic reproductions of obligations and other securities of the United States; contraband items; claims against the United States for the proceeds of government checks and bonds; and reports necessary for the settlement of check and bond claims; polygraph case files; forensic examination information; search warrants and search warrant returns; indictments; certified inventories of property held as evidence; sworn and unsworn witnesses statements; witness statements; state, local and foreign criminal investigative information and reports; names and telephone numbers of persons intercepted by electronic, mechanical, or other device under the provisions of Title 18 U.S.C., Section 2510 et seq. compiled during the lawful course of a criminal or civil investigation.

Authority for maintenance of the system:

The Homeland Security Act of 2002, Public Law 107-296; Federal Records Act, 44 U.S.C. 3101; 6 CFR part 5; 5 U.S.C.; 18 U.S.C. 3056; Executive Order 9397.

Purpose(s):

The purpose of this system is to collect and maintain criminal records of individuals being investigated by DHS/USSS.

Routine uses of records maintained in the system, including categories of users and the purposes of such uses:

In addition to those disclosures generally permitted under 5 U.S.C. 552a(b) of the Privacy Act, all or a portion of the records or information contained in this system may be disclosed outside the Department of Homeland Security (DHS) as a routine use pursuant to 5 U.S.C. 552a(b)(3) as follows:

A. To the Department of Justice or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To employees and officials of financial and commercial business firms and to private individuals information pertaining to actual or suspected criminal offenders where such disclosure is considered reasonably necessary for the purpose of furthering Secret Service efforts to investigate the activities of and apprehend criminal offenders and suspected criminal offenders.

I. To a court, magistrate, or administrative tribunal in the course of presenting evidence, including disclosure to opposing counsel or witnesses in the course of civil discovery, litigation, or settlement negotiations or in connection with criminal law proceedings or in response to a subpoena from a court of competent jurisdiction.

J. To an appropriate Federal, State, local, tribal, territorial, foreign, or international agency, if the information is relevant and necessary to agency's decision concerning the hiring or retention of an individual, the issuance of a security clearance, license, contract, grant, or other benefit, or if the information is relevant and necessary to a DHS decision concerning the hiring or retention of an employee, the issuance of a security clearance, the reporting of an investigation of an employee, the letting of a contract, or the issuance of a license, grant or other benefit and when disclosure is appropriate to the proper performance of the official duties of the person making the request.

K. To the Integrated Automated Fingerprint Identification System (IAFIS) managed by the Department of Justice, Federal Bureau of Investigations in connection with Secret Service's utilization.

L. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

M. To Federal, State, and local government agencies foreign or domestic, having prosecutorial and civil law enforcement functions for use by attorneys, magistrates, and judges, parole or probation authorities and other law enforcement authorities for the purpose of developing a criminal or civil investigation, prosecuting, sentencing, or determining the parole and probation status of criminal offenders or suspected criminal offenders.

N. To personnel of other Federal, State, and local law enforcement agencies, foreign or domestic, for the purpose of developing information on subjects involved in Secret Service criminal investigations and assisting other law enforcement agencies in the investigation and prosecution of violations of the criminal laws which those agencies are responsible for enforcing.

O. To personnel of Federal, State, and local governmental agencies, where such disclosure is considered reasonably necessary for the purpose of furthering Secret Service efforts to investigate the activities of and apprehend criminal offenders and suspected criminal offenders.

P. To personnel of Federal, State, and local governmental agencies, foreign and domestic, where there is a showing of reasonable necessity to obtain such information to accomplish a valid law enforcement purpose.

Disclosure to consumer reporting agencies:

None.

Policies and practices for storing, retrieving, accessing, retaining, and disposing of records in the system:

Storage:

Records in this system are stored electronically or on paper in secure facilities in a locked drawer and/or behind a locked door. The records are stored on magnetic disc, tape, digital media, and CD-ROM.

Retrievability:

This system is indexed by name, address, vehicle license number, and/or telephone number, and is retrieved through computer search of magnetic media indices both at Headquarters and in the field offices. Additionally, subjects are retrievable from the computerized files by physical description. Access to the physical files containing records is by case number.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

All Judicial cases, 30 years after case closure; non-judicial criminal investigative cases (except non-judicial check and bond cases), 10 years; non-judicial check claim and bond forgery cases, 5 years; administrative files of an investigatory nature, 5 years; all other files and records the disposition of which is not otherwise specified, 5 years; investigations for other districts, 2 years; receipts vary with the case file to which they pertain; investigation control forms, varies; arrest history forms, indefinite; headquarters criminal investigative case files, 30 years; indices and microfilm copies are retained for an indefinite period; consensual and non-consensual interception indices, 10 years or when investigative use no longer exists, whichever is longer; fingerprint and photograph files, at varying intervals in accordance with record retention schedules approved by the National Archives and Records Administration.

System Manager and address:

Assistant Director, Office of Investigations, U.S. Secret Service, 950 H St., NW., Suite 8900, Washington, DC 20223.

Notification procedure:

Pursuant to 5 U.S.C. 522a(j) and (k), this system of records generally may not be accessed by members of the public for purposes of determining if the system contains a record pertaining to a particular individual. Nonetheless individual requests will be reviewed on a case by case basis. Individuals seeking notification of and access to any record contained in this system of records, or seeking to contest its content, may submit a request in writing to the USSS's FOIA Officer, Freedom of Information and Privacy Acts Branch 245 Murray Drive, Building 410, Washington, DC 20223.

When seeking records about yourself from this system of records or any other USSS system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information USSS may not be able to conduct an effective search, and your request may be denied due to lack of specificity or lack of compliance with applicable regulations.

Record access procedures:

See “Notification procedure” above.

Contesting record procedures:

See “Notification procedure” above.

Record Source Categories:

The Secretary of Homeland Security has exempted this system from subsections (e)(4)(I) of the Privacy Act pursuant to 5 U.S.C. 552a(j)(2) and (k)(2).and (k)(3), therefore records sources shall not be disclosed.

Exemptions claimed for the system:

Pursuant to exemption 5 U.S.C. 552a(j)(2) of the Privacy Act, portions of this system are exempt from 5 U.S.C. 552a(c)(3) and (4); (d); (e)(1), (e)(2), (e)(3), (e)(4)(G), (e)(4)(H), (e)(4)(I), (e)(5), and (e)(8); (f), and (g). Pursuant to 5 U.S.C. 552a(k)(1), (k)(2), and (k)(3) this system is exempt from the following provisions of the Privacy Act, subject to the limitations set forth in those subsections: 5 U.S.C. 552a(c)(3), (d), (e)(1), (e)(4)(G), (e)(4)(H), (e)(4)(I), and (f). In addition, to the extent a record contains information from other exempt systems of records, USSS will rely on the exemptions claimed for those systems.

Dated: December 10, 2008.
Hugo Teufel III,
Chief Privacy Officer, Department of Homeland Security.

[FR Doc. E8-29780 Filed 12-18-08; 8:45 am]

BILLING CODE 4410-10-P